DEPARTMENT OF THE TREASURY

Office of Foreign Assets Control

31 CFR Part 591

Publication of Venezuela Sanctions Regulations Web General Licenses 23, 24, 25, 26, 27, and 28

AGENCY: Office of Foreign Assets Control, Treasury.

ACTION: Publication of web general licenses.

SUMMARY: The Department of the Treasury's Office of Foreign Assets Control (OFAC) is publishing six general licenses (GLs) issued in the Venezuela Sanctions program: GLs 23, 24, 25, 26, 27, and 28, each of which was previously made available on OFAC's website.

DATES: GL 23 was issued on August 5, 2019. See SUPPLEMENTARY INFORMATION for additional relevant dates.

FOR FURTHER INFORMATION CONTACT: OFAC: Assistant Director for Licensing, 202-622-2480; Assistant Director for Regulatory Affairs, 202-622-4855; or Assistant Director for Sanctions Compliance & Evaluation, 202-622-2490.

SUPPLEMENTARY INFORMATION:

Electronic Availability

This document and additional information concerning OFAC are available on OFAC's website: www.treas.gov/ofac.

Background

On August 5, 2019, OFAC issued GLs 23, 24, 25, and 28 authorizing certain transactions otherwise prohibited by Executive Order (E.O.) 13884 of August 5, 2019, “Blocking Property of the Government of Venezuela” (84 FR 38843). GL 28 expired on September 4, 2019.

Also on August 5, 2019, OFAC issued GL 26, authorizing certain transactions otherwise prohibited by the Venezuela Sanctions Regulations, 31 CFR part 591, E.O. 13692 of March 8, 2015, “Blocking Property and Suspending Entry of Certain Persons Contributing to the Situation in Venezuela” (80 FR 12747), and other E.O.s issued pursuant to the national emergency declared in E.O. 13692.

Also on August 5, 2019, OFAC issued GL 27, authorizing certain transactions otherwise prohibited by E.O. 13692, E.O. 13850 of November 1, 2018, “Blocking Property of Additional Persons Contributing to the Situation in Venezuela” (83 FR 55243); and E.O. 13884.

Each GL was made available on OFAC's website (www.treas.gov/ofac) when it was issued. The text of these GLs is provided below.

OFFICE OF FOREIGN ASSETS CONTROL

Executive Order of August 5, 2019

Blocking Property of Government of Venezuela

GENERAL LICENSE NO. 23

Third-Country Diplomatic and Consular Funds Transfers Authorized

(a) Except as provided in paragraph (b), U.S. depository institutions, U.S.-registered brokers or dealers in securities, and U.S.-registered money transmitters are authorized to process funds transfers involving the Government of Venezuela that are necessary for the operating expenses or other official business of third-country diplomatic or consular missions in Venezuela.

Note to paragraph (a): The authorization in paragraph (a) of this general license authorizes funds transfers involving Government of Venezuela persons blocked solely pursuant to Executive Order (E.O.) of August 5, 2019.

(b) This general license does not authorize any transaction that is otherwise prohibited by E.O. of August 5, 2019, or E.O. 13850 of November 1, 2018, E.O. 13835 of May 21, 2018, E.O. 13827 of March 19, 2018, E.O. 13808 of August 24, 2017, or E.O. 13692 of March 8, 2015, each as amended by E.O. 13857 of January 25, 2019, or any part of 31 CFR chapter V.

Andrea Gacki,

Director, Office of Foreign Assets Control.

Dated: August 5, 2019.

OFFICE OF FOREIGN ASSETS CONTROL

Executive Order of August 5, 2019

Blocking Property of the Government of Venezuela

GENERAL LICENSE NO. 24

Certain Transactions Involving the Government of Venezuela Related to Telecommunications and Mail Authorized

(a) Except as provided in paragraph (c) of this general license, all transactions involving the Government of Venezuela incident to the receipt and transmission of telecommunications are authorized.

(b) Except as provided in paragraph (c) of this general license, all transactions of common carriers involving the Government of Venezuela incident to the receipt or transmission of mail and packages between the United States and Venezuela are authorized.

Note to paragraphs (a) and (b): The authorizations in paragraphs (a) and (b) of this general license authorize transactions with Government of Venezuela persons blocked solely pursuant to E.O. of August 5, 2019.

(c) This general license does not authorize any transaction that is otherwise prohibited by Executive Order (E.O.) of August 5, 2019, or E.O. 13850 of November 1, 2018, E.O. 13835 of May 21, 2018, E.O. 13827 of March 19, 2018, E.O. 13808 of August 24, 2017, or E.O. 13692 of March 8, 2015, each as amended by E.O. 13857 of January 25, 2019, or any part of 31 CFR chapter V, or any transactions or dealings with any blocked person other than the Government of Venezuela persons described in paragraphs (a) and (b) of this general license.

Note to General License No. 24: Nothing in this general license relieves any exporter from compliance with the requirements of other Federal agencies, including the Department of Commerce's Bureau of Industry and Security.

Andrea Gacki,

Director, Office of Foreign Assets Control.

Dated: August 5, 2019.

OFFICE OF FOREIGN ASSETS CONTROL

Executive Order of August 5, 2019

Blocking Property of the Government of Venezuela

GENERAL LICENSE NO. 25

Exportation of Certain Services, Software, Hardware, and Technology Incident to the Exchange of Communications Over the Internet Authorized

(a) Except as provided in paragraph (b) of this general license, the exportation or reexportation, directly or indirectly, from the United States or by U.S. persons, wherever located, to or involving the Government of Venezuela of services, software, hardware, and technology incident to the exchange of communications over the internet, such as instant messaging, chat and email, social networking, sharing of photos and movies, web browsing, blogging, web hosting, and domain name registration services, that would otherwise be prohibited by Executive Order (E.O.) of August 5, 2019, is authorized.

Note to paragraph (a): The authorization in paragraph (a) of this general license authorizes transactions with Government of Venezuela persons blocked solely pursuant to E.O. of August 5, 2019.

(b) This general license does not authorize any transaction that is otherwise prohibited by E.O. of August 5, 2019, or E.O. 13850 of November 1, 2018, E.O. 13835 of May 21, 2018, E.O. 13827 of March 19, 2018, E.O. 13808 of August 24, 2017, or E.O. 13692 of March 8, 2015, each as amended by E.O. 13857 of January 25, 2019, or any part of 31 CFR chapter V, or any transactions or dealings with any blocked person other than the Government of Venezuela persons described in paragraph (a) of this general license.

Note to General License No. 25: Nothing in this general license relieves any exporter from compliance with the requirements of other Federal agencies, including the Department of Commerce's Bureau of Industry and Security.

Andrea Gacki,

Director, Office of Foreign Assets Control.

Dated: August 5, 2019.

OFFICE OF FOREIGN ASSETS CONTROL

Venezuela Sanctions Regulations 31 CFR Part 591

Executive Order 13692 of March 8, 2015

Blocking Property and Suspending Entry of Certain Persons Contributing to the Situation in Venezuela

Executive Order 13808 of August 24, 2017

Imposing Additional Sanctions With Respect to the Situation in Venezuela

Executive Order 13827 of March 19, 2018

Taking Additional Steps To Address the Situation in Venezuela

Executive Order 13835 of May 21, 2018

Prohibiting Certain Additional Transactions With Respect to Venezuela

Executive Order 13850 of November 1, 2018

Blocking Property of Additional Persons Contributing to the Situation in Venezuela

Executive Order of August 5, 2019

Blocking Property of the Government of Venezuela

GENERAL LICENSE NO. 26

Emergency and Certain Other Medical Services Authorized

(a) Emergency medical services. The provision and receipt of nonscheduled emergency medical services prohibited by 31 CFR part 591, Executive Order (E.O.) of August 5, 2019, or E.O. 13850, E.O. 13835, E.O. 13827, E.O. 13808, or E.O. 13692, each as amended by E.O. 13857 of January 25, 2019, or any further Executive orders relating to the national emergency declared in E.O. 13692, are authorized.

(b) Other medical services. (1) Except as provided in paragraph (b)(2) of this general license, the provision of medical services involving the Government of Venezuela prohibited by E.O. of August 5, 2019 is authorized.

(2) Paragraph (b)(1) of this general license does not authorize any transaction or dealing otherwise prohibited by E.O. 13850, E.O. 13835, E.O. 13827, E.O. 13808, or E.O. 13692, each as amended by E.O. 13857, or any part of 31 CFR chapter V, or any transactions or dealings with any blocked person other than the persons described in paragraph (b)(1) of this general license.

Note to paragraph (b): The authorization in paragraph (b)(1) of this general license authorizes transactions with Government of Venezuela persons blocked solely pursuant to E.O. of August 5, 2019.

Andrea Gacki,

Director, Office of Foreign Assets Control.

Dated: August 5, 2019.

OFFICE OF FOREIGN ASSETS CONTROL

Executive Order 13692 of March 8, 2015

Blocking Property and Suspending Entry of Certain Persons Contributing to the Situation in Venezuela

Executive Order 13850 of November 1, 2018

Blocking Property of Additional Persons Contributing to the Situation in Venezuela

Executive Order of August 5, 2019

Blocking Property of the Government of Venezuela

GENERAL LICENSE NO. 27

Certain Transactions Related to Patents, Trademarks, and Copyrights Authorized

(a) Except as provided in paragraph (c), all of the following transactions in connection with a patent, trademark, copyright or other form of intellectual property protection in the United States or Venezuela that would otherwise be prohibited by Executive Order (E.O.) 13692 or E.O. 13850, each as amended by E.O. 13857 of January 25, 2019, or E.O. of August 5, 2019, are authorized:

(1) The filing and prosecution of any application to obtain a patent, trademark, copyright, or other form of intellectual property protection;

(2) The receipt of a patent, trademark, copyright, or other form of intellectual property protection;

(3) The renewal or maintenance of a patent, trademark, copyright, or other form of intellectual property protection; and

(4) The filing and prosecution of any opposition or infringement proceeding with respect to a patent, trademark, copyright, or other form of intellectual property protection, or the entrance of a defense to any such proceeding.

(b) This general license authorizes the payment of fees to the United States Government or the Government of Venezuela, and of the reasonable and customary fees and charges to attorneys or representatives within the United States or Venezuela, in connection with the transactions authorized in paragraph (a) of this general license. Payment effected pursuant to the terms of this paragraph may not be made from a blocked account.

(c) This general license does not authorize any transaction that is otherwise prohibited by E.O. of August 5, 2019, or E.O. 13850, E.O. 13835 of May 21, 2018, E.O. 13827 of March 19, 2018, E.O. 13808 of August 24, 2017, or E.O. 13692, each as amended by E.O. 13857, or any part of 31 CFR chapter V.

Andrea Gacki,

Director, Office of Foreign Assets Control.

Dated: August 5, 2019.

OFFICE OF FOREIGN ASSETS CONTROL

Executive Order of August 5, 2019

Blocking Property of the Government of Venezuela

GENERAL LICENSE NO. 28

Authorizing Certain Activities Necessary to the Wind Down of Operations or Existing Contracts Involving the Government of Venezuela

(a) Except as provided in paragraph (b) of this general license, all transactions and activities prohibited by Executive Order (E.O.) of August 5, 2019 that are ordinarily incident and necessary to the wind down of operations, contracts, or other agreements involving the Government of Venezuela that were in effect prior to August 5, 2019 are authorized through 12:01 a.m. eastern daylight time, September 4, 2019.

Note to paragraph (a): The authorization in paragraph (a) of this general license authorizes transactions with Government of Venezuela persons blocked solely pursuant to E.O. of August 5, 2019.

(b) This general license does not authorize:

(l) Any debit to an account of the Government of Venezuela on the books of a U.S. financial institution; or

(2) Any transactions or dealings otherwise prohibited by E.O. of August 5, 2019, or E.O. 13850 of November 1, 2018, E.O. 13835 of May 21, 2018, E.O. 13827 of March 19, 2018, E.O. 13808 of August 24, 2017, or E.O. 13692 of March 8, 2015, each as amended by E.O. 13857 of January 25, 2019, or any part of 31 CFR chapter V, or any transactions or dealings with any blocked person other than the blocked persons identified in paragraph (a).

Andrea Gacki,

Director, Office of Foreign Assets Control.

Dated: August 5, 2019.

Andrea M. Gacki,
Director, Office of Foreign Assets Control.

[FR Doc. 2023-03289 Filed 2-15-23; 8:45 am]

BILLING CODE P